DEPARTMENT OF TRANSPORTATION

Federal Aviation Administration

14 CFR Part 39

[Docket No. FAA-2009-0657; Directorate Identifier 2009-NM-048-AD; Amendment 39-16175; AD 2010-02-04]

RIN 2120-AA64

Airworthiness Directives; The Boeing Company Model 737-600, -700, -700C, -800, -900, and -900ER Series Airplanes

AGENCY: Federal Aviation Administration (FAA), DOT.

ACTION: Final rule.

SUMMARY: We are adopting a new airworthiness directive (AD) for certain Model 737-600, -700, -700C, -800, -900, and -900ER series airplanes. This AD requires replacing the engine fuel shutoff valves for the left and right main tanks. This AD results from a report of a failed engine start, which was caused by an internally fractured engine fuel shutoff valve. We are issuing this AD to prevent the failure of the valve in the closed position, open position, or partially open position, which could result in engine fuel flow problems and possible uncontrolled fuel leak or fire.

DATES: This AD is effective February 18, 2010.

The Director of the Federal Register approved the incorporation by reference of a certain publication listed in the AD as of February 18, 2010.

ADDRESSES: For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

Examining the AD Docket

You may examine the AD docket on the Internet at http://www.regulations.gov; or in person at the Docket Management Facility between 9 a.m. and 5 p.m., Monday through Friday, except Federal holidays. The AD docket contains this AD, the regulatory evaluation, any comments received, and other information. The address for the Docket Office (telephone 800-647-5527) is the Document Management Facility, U.S. Department of Transportation, Docket Operations, M-30, West Building Ground Floor, Room W12-140, 1200 New Jersey Avenue, SE., Washington, DC 20590.

FOR FURTHER INFORMATION CONTACT: Samuel Spitzer, Aerospace Engineer, Propulsion Branch, ANM-140S, FAA, Seattle Aircraft Certification Office, 1601 Lind Avenue, SW., Renton, Washington 98057-3356; telephone (425) 917-6510; fax (425) 917-6590.

SUPPLEMENTARY INFORMATION:

Discussion

We issued a notice of proposed rulemaking (NPRM) to amend 14 CFR part 39 to include an airworthiness directive (AD) that would apply to certain Model 737-600, -700, -700C, -800, -900, and -900ER series airplanes. That NPRM was published in the Federal Register on July 29, 2009 (74 FR 37657). That NPRM proposed to require replacing the engine fuel shutoff valves for the left and right main tanks.

Comments

We gave the public the opportunity to participate in developing this AD. We considered the comments received from the commenters.

Support for the NPRM

Boeing concurs with the contents of the NPRM. Continental Airlines has no technical objections to the NPRM.

Request To Clarify Use of Valve Bodies

Continental Airlines states that the NPRM affects the engine fuel shutoff valves, and paragraph (i) of the NPRM prohibits installing any valve with ITT Aerospace Controls part number 125334D-1 (Boeing part number S343T003-40) that has been removed from the spar location on any airplane in any location unless it has been modified in accordance with Boeing Service Bulletin 737-28-1272, dated October 31, 2008, to the new ITT 125334D-2 part number (Boeing part number S343T003-67).

We infer that Continental Airlines asks that we clarify whether the removed valve can be reused on airplanes in any location. We agree to provide clarification. These valves may not be used in any location on the airplane unless they have been modified in accordance with Boeing Service Bulletin 737-28-1272, dated October 31, 2008, to the new ITT 125334D-2 part number (Boeing part number S343T003-67). We have not changed the AD in this regard.

Request To Increase the Cost of Compliance

Air Transport Association (ATA), on behalf of its member American Airlines, requests that we increase the costs of compliance to reflect 34 work-hours instead of 26 work-hours. ATA states that the ITT Aerospace Controls service bulletin includes 4 hours for each engine fuel spar valve body. Each Boeing Model 737-600, -700, -700C, -800, -900, and -900ER series airplane has 2 valve bodies in the engine fuel shutoff valve position.

We disagree with the request to increase the cost of compliance. Boeing Service Bulletin 737-28-1272, dated October 31, 2008, provides the option to return the valve to the supplier for modification, and therefore, the actions identified by the commenter are not mandatory. Because the additional costs cited by the ATA are optional to operators, we do not consider those costs in our determination of the cost of compliance. We have not changed the AD in this regard.

Request To Extend the Compliance Time

ATA, on behalf of its member American Airlines, requests that we extend the compliance time from 60 months to 72 months after the effective date of the AD. The commenter states that maintenance schedules may not allow for accomplishment of the required actions on all affected aircraft within the compliance time, depending on the effective date of the AD.

We disagree with the request to extend the compliance time. The 60-month compliance time was established to maintain an acceptable level of safety across the 737 fleet in consideration of the valve failure rate, consequence of the failure, and practicality of incorporating the corrective actions. The commenter has not offered rationale for extending the compliance time. In developing an appropriate compliance time for this action, we considered the urgency associated with the subject unsafe condition, the availability of required parts, and the practical aspect of accomplishing the required modification within a period of time that corresponds to the normal scheduled maintenance for most affected operators. According to the manufacturer, an ample number of required parts will be available to modify the U.S. fleet within the proposed compliance time. However, according to the provisions of paragraph (j) of the final rule, we may approve requests to adjust the compliance time if the request includes data that prove the new compliance time would provide an acceptable level of safety. We have not changed the AD in this regard.

Explanation of Changes Made to This AD

We have revised this AD to identify the legal name of the manufacturer as published in the most recent type certificate data sheet for the affected airplane models.

Conclusion

We have carefully reviewed the available data, including the comments that have been received, and determined that air safety and the public interest require adopting the AD with the changes described previously. We have determined that these changes will neither increase the economic burden on any operator nor increase the scope of the AD.

Costs of Compliance

We estimate that this AD affects 883 airplanes of U.S. registry. We also estimate that it takes 26 work-hours per product to comply with this AD. The average labor rate is $80 per work-hour. Required parts cost up to $8,496 per product. Based on these figures, we estimate the cost of this AD to the U.S. operators to be up to $9,338,608, or $10,576 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979), and

(3) Will not have a significant economic impact, positive or negative, on a substantial number of small entities under the criteria of the Regulatory Flexibility Act.

You can find our regulatory evaluation and the estimated costs of compliance in the AD Docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-02-04 The Boeing Company: Amendment 39-16175. Docket No. FAA-2009-0657; Directorate Identifier 2009-NM-048-AD.

Effective Date

(a) This airworthiness directive (AD) is effective February 18, 2010.

Affected ADs

(b) None.

Applicability

(c) This AD applies to The Boeing Company Model 737-600, -700, -700C, -800, -900, and -900ER series airplanes, certificated in any category; as identified in Boeing Service Bulletin 737-28-1272, dated October 31, 2008.

Subject

(d) Air Transport Association (ATA) of America Code 28: Fuel.

Unsafe Condition

(e) This AD requires replacing engine fuel shutoff valves for the left and right main tanks. This AD results from a report of a failed engine start, which was caused by an internally fractured engine fuel shutoff valve. We are issuing this AD to prevent the failure of the valve in the closed position, open position, or partially open position, which could result in engine fuel flow problems and possible uncontrolled fuel leak or fire.

Compliance

(f) You are responsible for having the actions required by this AD performed within the compliance times specified, unless the actions have already been done.

Replacement of the Engine Fuel Spar Valve Body of the Left and Right Wing Main Tanks

(g) Within 60 months after the effective date of this AD: Replace the engine fuel spar valve bodies of the left and right wing main tanks in accordance with the Accomplishment Instructions of Boeing Service Bulletin 737-28-1272, dated October 31, 2008.

Note 1: Boeing Service Bulletin 737-28-1272, dated October 31, 2008, refers to ITT Aerospace Controls Service Bulletin 125334D-28-02, dated August 27, 2008, as an additional source of guidance for modifying the valve body assembly.

Parts Installation

(h) As of the effective date of this AD, no person may install any engine fuel shutoff valve with ITT Aerospace Controls part number 125334D-1 (Boeing part number S343T003-40) on any airplane at the spar valve location. A valve that has been modified in accordance with Boeing Service Bulletin 737-28-1272, dated October 31, 2008, to the new ITT 125334D-2 part number (Boeing part number S343T003-67) may be installed at the spar valve location.

(i) As of the effective date of this AD, no valve with ITT Aerospace Controls part number 125334D-1 (Boeing part number S343T003-40) that has been removed from the spar location may be reinstalled on any airplane in any location unless it has been modified in accordance with Boeing Service Bulletin 737-28-1272, dated October 31, 2008, to the new ITT 125334D-2 part number (Boeing part number S343T003-67).

Alternative Methods of Compliance (AMOCs)

(j)(1) The Manager, Seattle Aircraft Certification Office, FAA, has the authority to approve AMOCs for this AD, if requested using the procedures found in 14 CFR 39.19. Send information to ATTN: Samuel Spitzer, Aerospace Engineer, Propulsion Branch, ANM-140S, FAA, Seattle Aircraft Certification Office, 1601 Lind Avenue, SW., Renton, Washington 98057-3356; telephone (425) 917-6510; fax (425) 917-6590. Or, e-mail information to 9-ANM-Seattle-ACO-AMOC-Requests@faa.gov.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

Material Incorporated by Reference

(k) You must use Boeing Service Bulletin 737-28-1272, dated October 31, 2008, to do the actions required by this AD, unless the AD specifies otherwise.

(1) The Director of the Federal Register approved the incorporation by reference of this service information under 5 U.S.C. 552(a) and 1 CFR part 51.

(2) For service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on December 30, 2009.
Ali Bahrami,
Manager, Transport Airplane Directorate, Aircraft Certification Service.

[FR Doc. 2010-398 Filed 1-13-10; 8:45 am]

BILLING CODE 4910-13-P